CONSUMER PRODUCT SAFETY COMMISSION

[Docket No. CPSC-2009-0093]

Agency Information Collection Activities; Submission for Office of Management and Budget Review; Comment Request; Consumer Opinion Forum

AGENCY: Consumer Product Safety Commission.

ACTION: Notice.

SUMMARY: The Consumer Product Safety Commission (CPSC) is announcing that a proposed collection of information has been submitted to the Office of Management and Budget (OMB) for review and clearance under the Paperwork Reduction Act of 1995.

DATES: Fax written comments on the collection of information by March 24, 2010.

ADDRESSES: To ensure that comments on the information collection are received, OMB recommends that written comments be faxed to the Office of Information and Regulatory Affairs, OMB, Attn: CPSC Desk Officer, FAX: 202-395-6974, or e-mailed to oira_submission@omb.eop.gov. All comments should be identified with the OMB control number 3041-0135 and CPSC Docket No. CPSC-2009-0093. The written comments should also be submitted to the CPSC, identified by Docket No. CPSC-2009-0093, by any of the following methods:

Submit electronic comments in the following way:

Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Linda L. Glatz, Division of Policy and Planning, Office of Information Technology Consumer Product Safety Commission, 4330 East West Highway, Bethesda, MD 20814, (301) 504-7671, lglatz@cpsc.gov.

SUPPLEMENTARY INFORMATION: In compliance with 44 U.S.C. 3507, the CPSC has submitted the following proposed collection of information to OMB for review and clearance. Consumer Opinion Forum (OMB Control Number 3041-0135—Extension).

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

In order to better identify and evaluate the risks of product-related incidents, the Commission staff seeks to solicit consumer opinions and perceptions related to consumer product use, on a voluntary basis, through questions posted on the CPSC's Consumer Opinion Forum. Through the forum, consumers will be able to answer questions and provide information regarding their experiences, opinions and/or perceptions on the use or pattern of use of a specific product or type of product. The Consumer Opinion Forum is intended for consumers, 18 years and older, who have access to the Internet and e-mail, who voluntarily register to participate through a participant registration process, and respond to the questions posted in the Consumer Opinion Forum. A link to the Consumer Opinion Forum login page is available on the CPSC Web site, http://www.cpsc.gov. Consumers may link directly to the login page for the Consumer Opinion Forum at https://www.cpsc.gov/cgibin/cof/login.aspx. When new questions are posted on the CPSC Web site, registered participants will be invited via e-mail to respond to various questions, but not more frequently than once every four weeks.

The information collected from the Consumer Opinion Forum will help inform the Commission's evaluation of consumer products and product use by providing insight and information into consumer perceptions and usage patterns. Such information also may help the Commission in its efforts to support voluntary standards activities and help the staff identify areas regarding consumer safety issues that need additional research. In addition, based on the information obtained, the staff may be able to provide safety information to the public that is easier to read and is more easily understood by a wider range of consumers. For example, the staff may be able to propose new language or revisions to existing language in warning labels or manuals if the staff finds that certain warning language is perceived by many participants to be unclear or subject to misinterpretation. Finally, the Consumer Opinion Forum may be used to invite consumer opinions and feedback regarding the effectiveness of product recall communications and in determining what action consumers are taking in response to such communications and why they are taking those actions. This may help tailor future recall activities to increase the success of those activities. If this information is not collected, the Commission would not have available useful information regarding consumer experiences, opinions, and perceptions related to specific product use, which the Commission relies on in its ongoing efforts to improve the safety of consumer products on behalf of consumers.

In the Federal Register of November 13, 2009 (74 FR 58610), the CPSC published a 60-day notice requesting public comment on the proposed collection of information. No comments were received.

Burden Estimates: During the past two years, 2,300 individuals have registered to participate in the Consumer Opinion Forum. Although the registration is still open, the Commission staff does not expect the number of registrants will exceed 5,000 over the next few years. The Commission staff estimates that each respondent will take 10 minutes or less to complete the one-time registration process. Based on that estimate, the registration burden is estimated to have been approximately 192 burden hours per year for 2,300 registrants.

The Commission staff further estimates that the amount of time required to respond to each set of questions on the Consumer Opinion Forum will be five minutes or less. The Commission staff foresees the possibility of up to four surveys per year. If, at the maximum, each respondent responds to four sets of questions in one year, the yearly burden would result in approximately 20 minutes per year for each respondent. Based on an estimated 44 percent response rate for 2,300 potential respondents, the annual burden could total 337 hours. If as many as 5,000 registrants respond, the Commission staff estimates that the annual burden could total approximately 733 hours per year (44 percent response rate for 5,000 potential respondents at five minutes per survey for four surveys).

The Commission staff estimates that the total estimated burden for new registrations and surveys, combined, will not exceed 925 hours annually (no more than 733 hours for four surveys per year, plus no more than 192 hours for new registrations). The Commission staff estimated the value of the time of respondents to this collection of information at $29.39 an hour. This is based on the 2009 U.S. Department of Labor Employer Costs for Employee Compensation. At this valuation, the estimated annual cost to the public of this information collection will be approximately $27,000 per year.

The Commission will expend approximately one month of professional staff time annually for preparing questions and analysis of responses for each survey. Assuming that four surveys will be conducted annually, (and four staff months) the total annual cost to the Federal government of the collection of information is estimated to be $55,360.

Dated: February 16, 2010.
Todd A. Stevenson,
Secretary, Consumer Product Safety Commission.

[FR Doc. 2010-3295 Filed 2-19-10; 8:45 am]

BILLING CODE 6355-01-P